DEPARTMENT OF TRANSPORTATION

Federal Motor Carrier Safety Administration

[Docket No. FMCSA-2010-0270]

Agency Information Collection (IC) Activities; Revision of an Approved IC; Accident Recordkeeping Requirements

AGENCY: Federal Motor Carrier Safety Administration (FMCSA), DOT.

ACTION: Notice and request for comments.

SUMMARY: In accordance with the Paperwork Reduction Act of 1995, FMCSA announces its plan to request that the Office of Management and Budget (OMB) approve revision of the Information Collection (IC) entitled, “Accident Recordkeeping Requirements,” because FMCSA has obtained more accurate data upon which to base calculation of the paperwork burden of this IC. The FMCSA invites public comment.

DATES: We must receive your comments on or before November 8, 2010.

ADDRESSES: You may submit comments bearing the Federal Docket Management System (FDMS) Docket Number FMCSA-2010-0270 by any of the following methods:

• Federal eRulemaking Portal: http://www.regulations.gov. Follow the online instructions for submitting comments.

• Fax: 1-202-493-2251.

• Mail: Docket Management Facility, U.S. Department of Transportation, 1200 New Jersey Avenue, SE., West Building, Ground Floor, Room W12-140, Washington, DC 20590-0001.

• Hand Delivery or Courier: West Building, Ground Floor, Room W12-140, 1200 New Jersey Avenue, SE., between 9 a.m. and 5 p.m. E.T., Monday through Friday, except Federal holidays.

Instructions: Each submission must include the Agency name and the docket number for this Notice. Note that DOT posts all comments received without change to http://www.regulations.gov, including any personal information included in a comment. Please see the Privacy Act heading below.

Docket: For access to the FDMS to read background documents or comments, go to http://www.regulations.gov at any time or to Room W12-140 on the ground level of the West Building, 1200 New Jersey Avenue, SE., Washington, DC 20590-0001 between 9 a.m. and 5 p.m., e.t. Monday through Friday, except Federal holidays. The FDMS is available 24 hours each day, 365 days each year. We will acknowledge receipt of your written comments if you include a self-addressed, stamped envelope or postcard. Your on-line comments are acknowledged by a printable confirmation message that appears immediately after you submit them on-line.

Privacy Act: Anyone may search the electronic form of all comments received into any of our dockets, by the name of the individual submitting the comment (or of the person signing the comment, if submitted on behalf of an association, business, labor union, etc.). You may review DOT's complete Privacy Act Statement for the Federal Docket Management System published in the Federal Register on January 17, 2008 (73 FR 3316). This information is also available at http://edocket.access.gpo.gov/2008/pdf/E8-785.pdf.

FOR FURTHER INFORMATION CONTACT: Mr. Thomas Yager, Chief, Driver and Carrier Operations Division, Office of Bus and Truck Standards and Operations, Federal Motor Carrier Safety Administration, 1200 New Jersey Avenue, SE., Washington, DC 20590-0001. Telephone: 202-366-4325. E-mail: MCPSD@dot.gov.

SUPPLEMENTARY INFORMATION:

Background

Under the Paperwork Reduction Act of 1995 (44 U.S.C. 3501-3520), Federal agencies must obtain approval from OMB for each IC they conduct, sponsor, or require through regulations. FMCSA has determined that it needs to revise the currently-approved estimate for OMB Control No. 2126-0009, “Accident Recordkeeping Requirements.” The regulation underlying this IC is 49 CFR 390.15, “Assistance in investigations and special studies.” It requires motor carriers to make all records and information pertaining to specified accidents available to an authorized representative or special agent of the FMCSA upon request, or as part of an inquiry. Interstate motor carriers are required to maintain an Accident Register consisting of specified information about each accident involving their commercial motor vehicles. The information for each accident must include, at a minimum, the following elements: Date of accident, city or town in which or most near where the accident occurred, the State in which the accident occurred, driver name, number of injuries, number of fatalities, and whether hazardous materials, other than fuel spilled from the fuel tanks of motor vehicles involved in the accident, were released. In addition, the register must contain copies of all accident reports required by State or other governmental entities or insurers. Motor carriers must maintain the required information in the Accident Register for 3 years after the date of the accident.

This IC strengthens FMCSA's ability to assess motor carrier safety performance. These assessments enable FMCSA to direct its enforcement resources to the motor carriers with the weakest safety records, helping those carriers prevent accidents and reduce their severity.

On February 8, 2008, OMB approved FMCSA's estimate for this IC of 32,040 annual burden hours and established an expiration date for this IC of February 28, 2011. Today FMCSA announces its plan to request that OMB approve revision of this estimate to 22,500 annual burden hours.

Title: Accident Recordkeeping Requirements.

OMB Control Number: 2126-0009.

Type of Request: Revision of an ICR.

Respondents: Motor carriers engaged in interstate commerce.

Estimated Number of Respondents: 500,000.

Estimated Number of Responses: 75,000.

Estimated Time per Response: 18 minutes.

Frequency of Response: On occasion.

Expiration Date: February 28, 2011.

Estimated Total Annual Burden: 22,500 hours.

Improved FMCSA accident data provides a more accurate estimate of the total responses to this information collection each year: 75,000. The Agency's previous estimate was 106,800 responses. FMCSA retains its prior estimate that a motor carrier requires approximately 18 minutes, on average, to complete the tasks necessary to comply with § 390.15, i.e., collecting the required information about the accident, entering it into the Accident Register and maintaining it and other documents required by § 390.15. Therefore, the annual burden hours for all motor carriers is 22,500 hours (rounded) (75,000 responses × 18 minutes each divided by 60 minutes per hour).

Definitions: Each of these definitions can be found at 49 CFR 390.5: “Motor carrier”: Any person engaged in a business affecting interstate commerce who owns or leases a commercial motor vehicle in connection with that business, or assigns employees to operate it. “Commercial motor vehicle”: A self-propelled or towed vehicle used on the highways in interstate commerce to transport passengers or property, if the vehicle—(1) Has a gross vehicle weight rating or gross combination weight rating, or gross vehicle weight or gross combination weight of 10,001 pounds, whichever is greater; or (2) Is designed or used to transport more than 8 passengers (including the driver) for compensation; or (3) Is designed or used to transport more than 15 passengers, including the driver, and is not used to transport passengers for compensation; or (4) Is used in transporting material found by the Secretary of Transportation to be hazardous under section 5103 of title 49, United States Code, and transported in a quantity requiring placarding under regulations prescribed by the Secretary under section 5103. “Accident”: An occurrence involving a Commercial motor vehicle operating on a highway in interstate or intrastate commerce which results in: (i) A fatality; (ii) bodily injury to a person who, as a result of the injury, receives medical treatment away from the scene of the accident; or (iii) one or more motor vehicles incurring disabling damage as a result of the accident, requiring the motor vehicle(s) to be transported away from the scene by a tow truck or other motor vehicle. The term “accident” does not include: (i) An occurrence involving only boarding or alighting from a stationary motor vehicle or (ii) An occurrence involving only the loading or unloading of cargo.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this information collection.

Issued on: September 2, 2010.
Kelly Leone,
Office Director for Information Technology.

[FR Doc. 2010-22456 Filed 9-8-10; 8:45 am]

BILLING CODE 4910-EX-P